DEPARTMENT OF TRANSPORTATION

Federal Aviation Administration

14 CFR Part 39

[Docket No. FAA-2026-0016; Project Identifier MCAI-2025-01450-E]

RIN 2120-AA64

Airworthiness Directives; Safran Helicopter Engines, S.A. (Type Certificate Previously Held by Turbomeca, S.A.) Engines

AGENCY: Federal Aviation Administration (FAA), DOT.

ACTION: Notice of proposed rulemaking (NPRM).

SUMMARY: The FAA proposes to supersede Airworthiness Directive (AD) 2024-24-02, which applies to all Safran Helicopter Engines, S.A. (Safran) Model ARRIUS 2F engines. AD 2024-24-02 requires removal of the affected fuel control unit (FCU) from service and replacement with a serviceable part. Since the FAA issued AD 2024-24-02, it was determined that certain serial numbers of the affected FCUs are not subject to the unsafe condition. This proposed AD would continue to require removal of the affected FCU from service and replacement with a serviceable part. This proposed AD would also reduce the number of affected FCUs. The FAA is proposing this AD to address the unsafe condition on these products.

DATES: The FAA must receive comments on this NPRM by March 6, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0016; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find this material on the EASA website at ad.easa.europa.eu.

• You may view this material at the FAA, Operational Safety Branch, 1200 District Avenue, Burlington, MA 01803. For information on the availability of this material at the FAA, call (817) 222-5110.

FOR FURTHER INFORMATION CONTACT: David Bergeron, Aviation Safety Engineer, FAA, 1600 Stewart Avenue, Suite 410, Westbury, NY 11590; phone: (860) 386-1805; email: david.j.bergeron@faa.gov.

SUPPLEMENTARY INFORMATION:

Comments Invited

The FAA invites you to send any written relevant data, views, or arguments about this proposal. Send your comments using a method listed under ADDRESSES. Include “Docket No. FAA-2026-0016; Project Identifier MCAI-2025-01450-E” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to David Bergeron, Aviation Safety Engineer, FAA, 1600 Stewart Avenue, Suite 410, Westbury, NY 11590. Any commentary that the FAA receives which is not specifically designated as CBI will be placed in the public docket for this rulemaking.

Background

The FAA issued AD 2024-24-02, Amendment 39-22892 (89 FR 92789, November 25, 2024), (AD 2024-24-02), for all Safran Model ARRIUS 2F engines. AD 2024-24-02 was prompted by an MCAI originated by EASA, which is the Technical Agent for the Member States of the European Union. EASA issued EASA Emergency AD 2024-0202-E, dated October 22, 2024 (EASA Emergency AD 2024-0202-E), to correct an unsafe condition identified as a missing lubricating and balancing groove on one of the bearings of the FCU fuel pump related to a non-conforming manufacturing process.

AD 2024-24-02 requires removal of the affected FCU from service and replacement with a serviceable part. The FAA issued AD 2024-24-02 to detect and correct missing lubricating and balancing grooves on the bearings of the FCU fuel pump.

Actions Since AD 2024-24-02 Was Issued

Since the FAA issued AD 2024-24-02, EASA superseded EASA Emergency AD 2024-0202-E and issued EASA AD 2024-0202R1, dated September 8, 2025 (EASA AD 2024-0202R1) (also referred to as the MCAI). The MCAI states that since EASA Emergency AD 2024-0202-E was issued, the manufacturing cards were reviewed and it was determined that certain serial numbers were not subject to the non-conforming manufacturing process.

The FAA is issuing this AD to detect and correct missing lubricating and balancing grooves on the bearings of the FCU fuel pump and reduce the number of affected serial numbers. The unsafe condition, if not addressed, could result in an uncommanded in-flight shut-down and a significant reduction of the control of a single engine helicopter.

You may examine the MCAI in the AD docket at regulations.gov under Docket No. FAA-2026-0016.

Material Incorporated by Reference Under 1 CFR Part 51

The FAA reviewed EASA AD 2024-0202R1, which specifies procedures for replacement of the affected parts with serviceable parts. The MCAI also specifies prohibiting installation of affected parts on an engine. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this NPRM after determining that the unsafe condition described previously is likely to exist or develop on other products of the same type design.

Proposed AD Requirements in This NPRM

This proposed AD would retain all requirements of AD 2024-24-02. This proposed AD would reduce the number of affected FCUs. This proposed AD would also require accomplishing the actions specified in the material already described.

Explanation of Required Compliance Information

In the FAA's ongoing efforts to improve the efficiency of the AD process, the FAA developed a process to use some civil aviation authority (CAA) ADs as the primary source of information for compliance with requirements for corresponding FAA ADs. The FAA has been coordinating with manufacturers and CAAs. As a result, the FAA proposes to incorporate EASA AD 2024-0202R1 by reference in the FAA final rule. This proposed AD would, therefore, require compliance with EASA AD 2024-0202R1 in its entirety through that incorporation, except for any differences identified as exceptions in the regulatory text of this proposed AD. Using common terms that are the same as the heading of a particular section EASA AD 2024-0202R1 does not mean that operators need comply only with that section. For example, where the AD requirement refers to “all required actions and compliance times,” compliance with this AD requirement is not limited to the section titled “Required Action(s) and Compliance Time(s)” in EASA AD 2024-0202R1. Material required by EASA AD 2024-0202R1 for compliance will be available at regulations.gov under Docket No. FAA-2026-0016 after the FAA final rule is published.

Costs of Compliance

The FAA estimates that this AD, if adopted as proposed, would affect five engines installed on helicopters of U.S. registry.

The FAA estimates the following costs to comply with this proposed AD:

Estimated Costs
Action | Labor cost | Parts cost | Cost per product | Cost on U.S. operators
Replace the FCU | 1 work-hour × $85 per hour = $85 | $20,650 | $20,735 | $103,675

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2024-24-02, Amendment 39-22892 (89 FR 92789, November 25, 2024); and

b. Adding the following new airworthiness directive:

Safran Helicopter Engines, S.A. (Type Certificate Previously Held by Turbomeca, S.A.): Docket No. FAA-2026-0016; Project Identifier MCAI-2025-01450-E.

(a) Comments Due Date

The FAA must receive comments on this airworthiness directive (AD) by March 6, 2026.

(b) Affected ADs

This AD replaces AD 2024-24-02, Amendment 39-22892 (89 FR 92789, November 25, 2024) (AD 2024-24-02).

(c) Applicability

This AD applies to Safran Helicopter Engines, S.A. (Type Certificate previously held by Turbomeca, S.A.) Model ARRIUS 2F Engines, as identified in European Union Aviation Safety Agency (EASA) AD 2024-0202R1, dated September 8, 2025 (EASA AD 2024-0202R1).

(d) Subject

Joint Aircraft System Component (JASC) Code 7314, Engine Fuel Pump.

(e) Unsafe Condition

This AD was prompted by a report of an uncommanded in-flight shut-down (IFSD) of a Safran Model ARRIUS 2F engine, followed by an investigation that revealed the IFSD was due to a missing lubricating and balancing groove on one of the bearings of the fuel control unit (FCU) fuel pump related to a non-conforming manufacturing process, and the determination that certain serial numbers of the affected FCUs are not affected by the unsafe condition. The FAA is issuing this AD to detect and correct missing lubricating and balancing grooves on the bearings of the FCU fuel pump and reduce the number of affected serial numbers. The unsafe condition, if not addressed, could result in an uncommanded IFSD and a significant reduction of the control of a single engine helicopter.

(f) Compliance

Comply with this AD within the compliance times specified, unless already done.

(g) Required Actions

Except as specified in paragraphs (h) and (i) of this AD: Do all required actions within the compliance times specified in, and in accordance with EASA AD 2024-0202R1.

(h) Exceptions to EASA AD 2024-0202R1

(1) Where EASA AD 2024-0202R1 refers to “October 24, 2024 [the effective date of the original issue of this AD],” this AD requires using December 10, 2024 (the effective date of AD 2024-24-02).

(2) Although the service information referenced in EASA AD 2024-0202R1 specifies to return the FCU to a Repair Center approved by Safran Helicopter Engines, this AD requires removing those parts from service.

(3) This AD does not adopt the “Remarks” section of EASA AD 2024-0202R1.

(i) No Reporting Requirement

Although the service information referenced in EASA AD 2024-0202R1 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact David Bergeron, Aviation Safety Engineer, FAA, 1600 Stewart Avenue, Suite 410, Westbury, NY 11590; phone: (860) 386-1805; email: david.j.bergeron@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency AD 2024-0202R1, dated September 8, 2025.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at FAA, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on January 14, 2026.
Steven W. Thompson,
Acting Deputy Director, Compliance & Airworthiness Division, Aircraft Certification Service.

[FR Doc. 2026-00933 Filed 1-16-26; 8:45 am]

BILLING CODE 4910-13-P